SOCIAL SECURITY ADMINISTRATION

Agency Information Collection Activities: Comment Request

The Social Security Administration (SSA) publishes a list of information collection packages that will require clearance by the Office of Management and Budget (OMB) in compliance with Pub. L. 104-13, the Paperwork Reduction Act of 1995, effective October 1, 1995. The information collection packages included in this notice are for new information collections.

SSA is soliciting comments on the accuracy of the agency's burden estimate; the need for the information; its practical utility; ways to enhance its quality, utility, and clarity; and on ways to minimize burden on respondents, including the use of automated collection techniques or other forms of information technology. Written comments and recommendations regarding the information collections should be submitted to the Office of Management and Budget and the SSA Reports Clearance Officer and the Office of Management and Budget. The information can be mailed and/or faxed to the addresses and fax numbers listed below:

(OMB), Office of Management and Budget, Fax: 202-395-6974.

(SSA), Social Security Administration, DCFAM, Attn: Reports Clearance Officer, 1338 Annex Building, 6401 Security Blvd., Baltimore, MD 21235, Fax: 410-965-6400, OPLM.RCO@ssa.gov.

The information collections listed below have been submitted to OMB for clearance. In order for your comments to be considered you must send them within 30 days from the date of publication of this notice. You can request a copy of the OMB clearance packages by email to OPLM.RCO@ssa.gov or by calling the SSA Reports Clearance Officer at (410) 965-0454.

1. Application for Help with Medicare Prescription Drug Plan Costs, SSA-1020-SC—0960-NEW. The Medicare Prescription Drug, Improvement, and Modernization Act of 2003 (Pub. L. 108-173; MMA) establishes a new Medicare Part D program for voluntary prescription drug coverage for premium, deductible, and cost-sharing subsidies for certain low-income individuals. The MMA stipulates that subsidies must be available for individuals who are eligible for the program and who meet eligibility criteria for help with premium, deductible, and/or co-payment costs.

Individuals who receive these subsidies may ask SSA to redetermine the amount of help they receive if they experience a “subsidy-changing event,” including marriage, separation, divorce, an annulment, or the death of a spouse. Until late 2006, when redetermination forms will become available, SSA will use form SSA-1020-SC, the Application for Help with Medicare Prescription Drug Plan Costs, to make redeterminations based on subsidy-changing events. The respondents are individuals whose application for help toward the costs for this program has been approved and are requesting a redetermination of their subsidy based on a subsidy-changing event.

Type of Request: New information collection.

Number of Respondents: 76,000.

Frequency of Response: 1.

Average Burden Per Response: 35 minutes.

Estimated Annual Burden: 44,333 hours.

2. Application for Help with Medicare Prescription Drug Plan Costs—0960-NEW (Internet/Intranet Application Screens). The Medicare Prescription Drug, Improvement, and Modernization Act of 2003 (Pub. L. 108-173; MMA) establishes a new Medicare Part D program for voluntary prescription drug coverage for premium, deductible, and cost-sharing subsidies for certain low-income individuals. The MMA stipulates that subsidies must be available for individuals who are eligible for the program and who meet eligibility criteria for help with premium, deductible, and/or co-payment costs. Form SSA-1020, the Application for Help with Medicare Prescription Drug Plan Costs, collects information about an applicant's resources and is used by SSA to determine eligibility for this assistance.

We are proposing electronic versions of the SSA-1020, which will collect the information via the Intranet (the information is provided by the respondent during an interview at a Social Security field office) or the Internet (i1020) (if respondents complete the Internet screens on their own and submit them electronically). The respondents are individuals who are eligible for enrollment in the Medicare Part D program and are requesting assistance with the related costs.

Type of Request: New information collection.

Number of Respondents: 2,000,000.

Frequency of Response: 1.

Average Burden Per Response: 45 minutes.

Estimated Annual Burden: 1,500,000.

Dated: March 17, 2005.
Elizabeth A. Davidson,
Reports Clearance Officer, Social Security Administration.

[FR Doc. 05-5644 Filed 3-22-05; 8:45 am]

BILLING CODE 4191-02-P